Proclamation 9762 of May 31, 2018

National Ocean Month, 2018

By the President of the United States of America

A Proclamation

The United States is a nation whose identity, wealth, and security are inextricably linked with the ocean and coastal waters. From sea to shining sea, Americans benefit from the ocean's bounty—from the industries it supports and the jobs it creates. During National Ocean Month, we celebrate this immense natural resource, and the millions of hardworking Americans employed by our ocean industries. We recognize the many ways our oceans and coasts enhance our lives. We acknowledge that our Nation can more effectively and responsibly harness its waters to the great benefit of its citizens.

Through the unique geography of its mainland and the strategic locations of Alaska, Hawaii, and its territories, the United States has the exclusive commercial rights to an oceanic area larger than the combined landmass of the 50 States. This invaluable national asset, called the United States Exclusive Economic Zone (EEZ), is currently underutilized. To harness the vast resources of the EEZ, we will develop and deploy new technologies in partnership with American academic institutions and innovators. We will streamline regulations and administrative practices to promote economic growth, while protecting our marine environment for current and future generations. We will also create new opportunities for American products in the global marketplace, including through continued support of our commercial fisheries and promotion of domestic aquaculture.

To advance America's economic, security, and environmental interests, it is also critical that we explore, map, and inventory our Nation's waters and pursue advanced observational technologies and forecasting capabilities. By exploring, developing, and conserving the ocean resources of our great Nation, we will augment our economic competitiveness, enhance our national security, and ensure American prosperity.

NOW, THEREFORE, I, DONALD J. TRUMP, President of the United States of America, by virtue of the authority vested in me by the Constitution and the laws of the United States, do hereby proclaim June 2018 as National Ocean Month. This month, I call upon Americans to reflect on the value and importance of oceans not only to our security and economy, but also as a source of recreation, enjoyment, and relaxation.

IN WITNESS WHEREOF, I have hereunto set my hand this thirty-first day of May, in the year of our Lord two thousand eighteen, and of the Independence of the United States of America the two hundred and forty-second.

[FR Doc. 2018-12259

Filed 6-4-18; 11:15 am]

Billing code 3295-F8-P